DEPARTMENT OF JUSTICE

Drug Enforcement Administration

[Docket No. DEA-693]

Bulk Manufacturer of Controlled Substances Application: National Center for Natural Products Research NIDA MPROJECT

AGENCY: Drug Enforcement Administration, Department of Justice.

ACTION: Notice of application.

DATES: Registered bulk manufacturers of the affected basic class(es), and applicants therefore, may file written comments on or objections to the issuance of the proposed registration on or before October 13, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on July 7, 2020, National Center for Natural Products Research National Institute of Drug Abuse (NIDA) MPROJECT, University of Mississippi, 135 Coy Waller Complex, P.O. Box 1848, University, Mississippi 36877-1848, applied to be registered as a bulk manufacturer of the following basic class(es) of controlled substances:

Controlled substance | Drug code | Schedule
Marijuana Extract | 7350 | I
Marijuana | 7360 | I
Tetrahydrocannabinols | 7370 | I

The company plans to bulk manufacture the above-listed controlled substances to make a supply of marihuana available to the National Institute of Drug Abuse (NIDA) for distribution to research investigators in support of the national research program needs. No other activities for these drug codes are authorized for this registration.

William T. McDermott,
Assistant Administrator.

[FR Doc. 2020-17433 Filed 8-10-20; 8:45 am]

BILLING CODE P